NATIONAL AERONAUTICS AND SPACE ADMINISTRATION

[Notice (01-030)]

NASA Advisory Council (NAC), Space Science Advisory Committee (SScAC), Astronomical Search for Origins and Planetary Systems (ORIGINS); Subcommittee Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astronomical Search for Origins Planetary Systems Subcommittee.

DATES: Tuesday, March 6, 2001, 8:30 a.m. to 5 p.m.; Wednesday, March 7, 2001, 8:30 a.m. to 5 p.m.

ADDRESSES: March 6, the subcommittee will meet at Jet Propulsion Laboratory, 4800 Oak Grove Drive, Pasadena, CA 91109, room 180-703C. March 7, the subcommittee will meet at Carnegie Observatories, 813 Santa Barbara Street, Pasadena, California 91101.

FOR FURTHER INFORMATION CONTACT: Dr. Anne L. Kinney, Code S, National Aeronautics and Space Administration, Washington, DC 20546, 202/358-2150.

SUPPLEMENTARY INFORMATION: The meeting will be open to the public up to the capacity of the room. The agenda for the meeting includes the following topics:

—Space Interferometry Mission Replan and Science

—Eclipse Science Potential

—Next Generation Space Telescope Rescope Status and Plans

—Origins Re-architecture Plans

—Origins Architecture

It is imperative that the meeting be held on these dates to accommodate the scheduling priorities of the key participants. Visitors will be requested to sign a visitor's register.

Dated: February 22, 2001.
Beth M. McCormick,
Advisory Committee Management Officer, National Aeronautics and Space Administration.

[FR Doc. 01-4721 Filed 2-26-01; 8:45 am]

BILLING CODE 7510-01-U